ENVIRONMENTAL PROTECTION AGENCY

40 CFR Part 271

[EPA-R04-RCRA-2024-0116; FRL-11972-04-R4]

North Carolina: Final Authorization of State Hazardous Waste Management Program Revisions

AGENCY: Environmental Protection Agency (EPA).

ACTION: Final action.

SUMMARY: On June 26, 2023, North Carolina submitted to the Environmental Protection Agency (EPA) a complete program revision application seeking authorization of changes to its hazardous waste program under the Resource Conservation and Recovery Act (RCRA), as amended. On July 15, 2024, the EPA published both a direct final action granting North Carolina final authorization for revisions to its federally authorized hazardous waste program, along with a companion proposed rule announcing the EPA's proposal to grant such final authorization. The EPA received two comments during the public comment period. On September 11, 2024, the EPA published a withdrawal of the direct final action so it could respond to the comments before the action went into effect. Today's action responds to comments and publishes the EPA's final determination granting North Carolina authorization of its hazardous waste program revisions.

DATES: This final authorization will become effective on November 4, 2024.

FOR FURTHER INFORMATION CONTACT: Leah Davis; RCRA Programs and Cleanup Branch; Land, Chemicals and Redevelopment Division; U.S. Environmental Protection Agency; Atlanta Federal Center, 61 Forsyth Street SW, Atlanta, Georgia 30303-8960; telephone number: (404) 562-8562; fax number: (404) 562-9964; email address: davis.leah@epa.gov.

SUPPLEMENTARY INFORMATION:

I. Why are revisions to State programs necessary?

States that have received final authorization from the EPA under RCRA section 3006(b), 42 U.S.C. 6926(b), must maintain a hazardous waste program that is equivalent to, consistent with, and no less stringent than the Federal program. As the Federal program changes, States must change their programs and ask the EPA to authorize the changes. Changes to State programs may be necessary when Federal or State statutory or regulatory authority is modified or when certain other changes occur. Most commonly, States must change their programs because of changes to the EPA's regulations in title 40 of the Code of Federal Regulations (CFR), parts 124, 260 through 268, 270, 273, and 279.

New Federal requirements and prohibitions imposed by Federal regulations that the EPA promulgates pursuant to the Hazardous and Solid Waste Amendments of 1984 (HSWA) take effect in authorized States at the same time they take effect in unauthorized States. Thus, the EPA will implement those requirements and prohibitions in North Carolina, including the issuance of new permits implementing those requirements, until the State is granted authorization to do so.

II. What is the background for this final action?

On June 26, 2023, North Carolina submitted to the EPA a complete program revision application seeking authorization of changes to North Carolina's hazardous waste program under the Resource Conservation and Recovery Act (RCRA), as amended. On July 15, 2024, the EPA published both a direct final action (89 FR 57364) granting North Carolina final authorization for revisions to its federally authorized hazardous waste program, along with a companion proposed rule (89 FR 57381) announcing the EPA's proposal to grant such final authorization. The EPA announced in both notices that the direct final action and the proposed rule were subject to a thirty-day public comment period. The EPA stated in both documents that if it received adverse public comment, it would withdraw the direct final action, base any further decision on the authorization of the State's program changes on the proposed rule, and address all public comments in a later final action. The public comment period ended on August 14, 2024. The EPA received two comments during the public comment period. On September 11, 2024, the EPA published a withdrawal of the direct final action (89 FR 73592) so it could respond to the comments before the action went into effect.

Today's action responds to the comments the EPA received and publishes the EPA's final determination granting North Carolina authorization of revisions to its hazardous waste program. The issues raised by the commenters are summarized and responded to in section III below. No further opportunity for comment will be provided.

III. What comments were received on North Carolina's proposed authorization and how is the EPA responding to these comments?

During the public comment period for the direct final action and proposed rule, the EPA received two comments. The comments are provided in the docket for this action. See Docket ID No. EPA-R04-RCRA-2024-0116 at www.regulations.gov. A summary of the comments and the EPA's responses are provided below.

Comment: The first comment is general in nature. The commenter does not oppose or support the EPA's authorization of revisions to the North Carolina hazardous waste program; rather, the commenter states that revisions to the State hazardous waste program must be no less stringent than the Federal program.

Response: As discussed in the EPA's direct final action, the EPA has reviewed all of the North Carolina hazardous waste program revisions submitted in its June 26, 2023 application, and has determined that they are equivalent to, consistent with, and no less stringent than the Federal program, which is the statutory standard set forth in RCRA section 3006(b), 42 U.S.C. 6926(b). The EPA has also concluded that some provisions of North Carolina's revised program are more stringent than the Federal program. These more stringent requirements will also become part of the federally enforceable RCRA program in North Carolina. Therefore, the EPA has determined that there is no basis to withdraw or deny authorization of the State program revisions based on this comment.

Comment: The second comment relates to a discrete provision of North Carolina law. Specifically, the commenter objects to 15A NCAC 13A .0108(c), which requires a transporter to submit to the North Carolina Department of Environmental Quality (DEQ) a letter describing a significant manifest discrepancy and to make attempts to reconcile it with a copy of the manifest or shipping paper at issue. The commenter states that the generator should have to provide the letter to DEQ addressing the discrepancy instead of shifting the burden to the transporter.

Response: As discussed in the EPA's direct final action, the revisions for which the State is seeking authorization are already effective and enforceable as a matter of State law, including this particular provision. The effect of the EPA's authorization decision is to make these changes part of the federally authorized State hazardous waste program and therefore federally enforceable. This action does not impose additional requirements on the regulated community because the regulations, including 15A NCAC 13A .0108(c), for which the EPA is authorizing North Carolina are already effective under State law and are not changed by the EPA's authorization decision. Therefore, the EPA has determined that there is no basis to withdraw or deny authorization of this provision based on this comment.

IV. What decisions has the EPA made in this action?

North Carolina submitted a complete program revision application, dated June 26, 2023, seeking authorization of changes to its hazardous waste program corresponding to certain Federal rules promulgated between October 27, 1987, and October 1, 2021 (including HSWA Cluster ¹ II (Checklists ² 39.1, 50.1, and 66.1), RCRA Cluster IV (Checklist 126.1), RCRA Cluster VI (Checklist 152), RCRA Cluster VIII (Checklist 167C.1), RCRA Cluster XIX (Checklists 219 and 221 ³), RCRA Cluster XX (Checklist 243), RCRA Cluster XXVII (Checklists 240 and 241), RCRA Cluster XXVIII (Checklist 242), RCRA Cluster XXIX (Checklist 243), and Cluster XXX (Checklist 244)). The EPA concludes that North Carolina's application to revise its authorized program meets all of the statutory and regulatory requirements established under RCRA, as set forth in RCRA section 3006(b), 42 U.S.C. 6926(b), and 40 CFR part 271. Therefore, the EPA grants North Carolina final authorization to operate its hazardous waste program with the changes described in the program revision application, and as outlined below in Section VI of this document.

¹ A “cluster” is a grouping of hazardous waste rules that the EPA promulgates from July 1st of one year to June 30th of the following year.

² A “checklist” is developed by the EPA for each Federal rule amending the RCRA regulations. The checklists document the changes made by each Federal rule and are presented and numbered in chronological order by date of promulgation.

³ Although the State requested authorization for Checklists 221 and 224 in its program revision application, the EPA is not authorizing North Carolina for these two checklists because they correspond to Federal rules that have been vacated. This vacatur was documented in Checklist 234. The EPA previously authorized North Carolina for Checklist 234 on October 10, 2019 (84 FR 54516).

North Carolina has responsibility for permitting treatment, storage, and disposal facilities within its borders (except in Indian country, as defined at 18 U.S.C. 1151) and for carrying out the aspects of the RCRA program described in its program revision application, subject to the limitations of HSWA, as discussed above.

V. What is the effect of this authorization decision?

The effect of this decision is that the changes described in North Carolina's program revision application will become part of the authorized State hazardous waste program and will therefore be federally enforceable. North Carolina will continue to have primary enforcement authority and responsibility for its State hazardous waste program. The EPA will maintain its authorities under RCRA sections 3007, 3008, 3013, and 7003, including its authority to:

• Conduct inspections, and require monitoring, tests, analyses, and reports;

• Enforce RCRA requirements, including authorized State program requirements, and suspend or revoke permits; and

• Take enforcement actions regardless of whether the State has taken its own actions.

This action does not impose additional requirements on the regulated community because the regulations for which the EPA is authorizing North Carolina are already effective under State law and are not changed by this action.

VI. What changes is the EPA authorizing with this action?

The EPA has determined that the North Carolina hazardous waste program revisions included in its June 26, 2023 application are equivalent to, consistent with, and no less stringent than the Federal program, and therefore satisfy all of the requirements necessary to qualify for final authorization. Therefore, the EPA grants final authorization to North Carolina for the following program changes:

Description of Federal requirement | Federal Register date and page | Analogous state authority ¹
Checklist 39.1,² California List Waste Restrictions | 52 FR 41295, 10/27/1987 | 15 NCAC 13A .0101(e).
Checklist 50.1,² Land Disposal Restrictions for First Third Scheduled Wastes | 54 FR 8264, 2/27/1989 | 15A NCAC 13A .0112(b).
Checklist 66.1,² Land Disposal Restrictions; Corrections to the First Third Scheduled Wastes | 55 FR 23935, 6/13/1990 | 15A NCAC 13A .0112(a).
Checklist 126.1,² Testing and Monitoring Activities | 59 FR 47980, 9/19/1994 | 15A NCAC 13A .0112(a).
Checklist 152,³ Imports and Exports of Hazardous Waste: Implementation of OECD Council Decision | 61 FR 16290, 4/12/1996 | 15A NCAC 13A .0102(b); 15A NCAC 13A .0106(a); 15A NCAC 13A .0107(a) and (f); 15A NCAC 13A .0108(a)-(d), 15A NCAC 13A .0109(c) and (f); 15A NCAC 13A .0110(b) and (e); 15A NCAC 13A .0111(b); 15A NCAC 13A .0119(b), (c), (d) and (f).
Checklist 167C.1,² Land Disposal Restrictions Phase IV—Corrections | 63 FR 31266, 6/8/1998 | 15A NCAC 13A .0112(f).
Checklist 219,⁴ Revisions to the Definition of Solid Waste, as amended by Checklist 233 (2015 and 2018) | 73 FR 64668, 10/30/2008 | 15A NCAC 13A .0102(b); 15A NCAC 13A .0103(c); 15A NCAC 13A .0106(a) and (f); 15A NCAC 13A .0113(g).
Checklist 240, Safe Management of Recalled Airbags | 83 FR 61552, 11/30/2018 | 15A NCAC 13A .0102(b); 15A NCAC 13A .0106(a); 15A NCAC 13A .0107(a).
Checklist 241, Management Standards for Hazardous Waste Pharmaceuticals and Amendment to the P075 Listing for Nicotine | 84 FR 5816, 2/22/2019 | 15A NCAC 13A .0106(a) and (d); 15A NCAC 13A .0107(a); 15A NCAC 13A .0109(b); 15A NCAC 13A .0110(a); 15A NCAC 13A .0111(g); 15A NCAC 13A .0112(a) and (e); 15A NCAC 13A .0113(a); 15A NCAC 13A .0119(g) and (g)(1).
Checklist 242, Universal Waste Regulations: Addition of Aerosol Cans | 84 FR 67202, 12/9/2019 | 15A NCAC 13A .0102(b); 15A NCAC 13A .0106(a); 15A NCAC 13A .0109(b); 15A NCAC 13A .0110(a); 15A NCAC 13A .0112(a); 15A NCAC 13A .0113(a); 15A NCAC 13A .0119(a)-(c).
Checklist 243, Modernizing Ignitable Liquids Determinations | 85 FR 40594, 7/7/2020 | 15A NCAC 13A .0101(e); 15A NCAC 13A .0106(c) and (m).
Checklist 244, Canada Import Export Recovery and Disposal Code Changes | 86 FR 54381, 10/1/2021 | 15A NCAC 13A .0107(f); 15A NCAC 13A .0109(c); 15A NCAC 13A .0110(b).
Notes
¹ The North Carolina regulatory citations are from the North Carolina Administrative Code (NCAC), effective August 6, 2020.
² Checklists 39.1, 50.1, 66.1, 126.1, and 167C.1 amended the underlying Federal rules. North Carolina properly adopted the required changes made by the underlying Federal rules and was previously authorized for those changes
³ Most of the provisions contained in Checklist 152 were amended or removed by subsequent checklists, for which the EPA has previously authorized North Carolina.
⁴ The EPA authorized North Carolina for Checklist 233, Revisions to the Definition of Solid Waste, Response to Vacatur of Certain Provisions of the Definition of Solid Waste Rule, on October 10, 2019 (84 FR 54516). Checklist 233 included certain provisions from Checklist 219, the 2008 Federal Revisions to the Definition of Solid Waste Rule, as amended on January 13, 2015, and May 30, 2018. For clarity and completeness, the EPA is authorizing Checklist 219, as amended by Checklist 233.

VII. Where are the revised State rules different than the Federal rules?

When revised State rules differ from the Federal rules in the RCRA State authorization process, the EPA determines whether the State rules are equivalent to, more stringent than, or broader in scope than the Federal program. Pursuant to RCRA section 3009, 42 U.S.C. 6929, State programs may contain requirements that are more stringent than the Federal regulations. Such more stringent requirements can be federally authorized and, once authorized, become federally enforceable. Although the statute does not prevent States from adopting regulations that are broader in scope than the Federal program, States cannot receive Federal authorization for such regulations, and they are not federally enforceable. There are no State requirements in the program revisions listed in the table above that are considered to be broader in scope than the Federal requirements. The EPA has determined that certain regulations included in North Carolina's program revisions listed in the table above are more stringent than the Federal program. These more stringent requirements will become part of the federally enforceable RCRA program in North Carolina when authorized.

North Carolina's program is more stringent at 15A NCAC 13A .0108(c) and (d), insofar as these provisions require transporters to reconcile significant manifest discrepancies with the waste generator.

North Carolina's program is more stringent at 15A NCAC 13A .0111(b), insofar as these provisions require off-site recycling facilities that receive materials described in 40 CFR 266.70(a) to label containers and tanks holding recyclable materials with the words “Recyclable Material.”

It should be noted that States cannot receive authorization for certain Federal regulatory functions involving international shipments (i.e., import and export provisions) such as those associated with the Canada Import Export Recovery and Disposal Code Changes Rule (Checklist 244) and the Imports and Exports of Hazardous Waste: Implementation of OECD Council Decision Rule (Checklist 152). Although North Carolina has adopted these rules to maintain its equivalency with the Federal program, it has appropriately maintained the Federal references. See 15A NCAC 13A .0101(b).

VIII. Who handles permits after the authorization takes effect?

North Carolina will issue permits for all the provisions for which it is authorized and will administer the permits it issues. The EPA will continue to administer any RCRA hazardous waste permits or portions of permits that the EPA issued prior to the effective date of authorization until they expire or are terminated. The EPA will not issue any new permits or new portions of permits for the provisions listed in the table above after the effective date of the final authorization. The EPA will continue to implement, and issue permits for HSWA requirements for which North Carolina is not yet authorized. The EPA has the authority to enforce State-issued permits after the State is authorized.

IX. How does today's action affect Indian Country in North Carolina?

North Carolina is not authorized to carry out its hazardous waste program in Indian country within the State, which includes the Indian lands associated with the Eastern Band of Cherokee Indians. Therefore, this action has no effect on Indian country. The EPA retains jurisdiction over Indian country and will continue to implement and administer the RCRA program on these lands.

X. What is codification and is the EPA codifying North Carolina's hazardous waste program as authorized in this action?

Codification is the process of placing citations and references to the State's statutes and regulations that comprise the State's authorized hazardous waste program into the Code of Federal Regulations. The EPA does this by adding those citations and references to the authorized State rules in 40 CFR part 272. The EPA is not codifying the authorization of North Carolina's revisions at this time. However, the EPA reserves the ability to amend 40 CFR part 272, subpart II, for the authorization of North Carolina's program changes at a later date.

XI. Statutory and Executive Order Reviews

The Office of Management and Budget (OMB) has exempted this action from the requirements of Executive Order 12866 (58 FR 51735, October 4, 1993) and 13563 (76 FR 3821, January 21, 2011). This action authorizes State requirements for the purpose of RCRA section 3006 and imposes no additional requirements beyond those imposed by State law. Therefore, this action is not subject to review by OMB. This action is not an Executive Order 14094 (88 FR 21879, April 11, 2023) regulatory action because actions such as the authorization of North Carolina's revised hazardous waste program under RCRA are exempted under Executive Order 12866. Accordingly, I certify that this action will not have a significant economic impact on a substantial number of small entities under the Regulatory Flexibility Act (5 U.S.C. 601 et seq.). Because this action authorizes pre-existing requirements under State law and does not impose any additional enforceable duty beyond that required by State law, it does not contain any unfunded mandate or significantly or uniquely affect small governments, as described in the Unfunded Mandates Reform Act of 1995 (2 U.S.C. 1531-1538). For the same reason, this action also does not significantly or uniquely affect the communities of Tribal governments, as specified by Executive Order 13175 (65 FR 67249, November 9, 2000). This action will not have substantial direct effects on the States, on the relationship between the National Government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant, and it does not make decisions based on environmental health or safety risks. This action is not subject to Executive Order 13211, “Actions Concerning Regulations That Significantly Affect Energy Supply, Distribution, or Use” (66 FR 28355, May 22, 2001), because it is not a significant regulatory action under Executive Order 12866.

Under RCRA section 3006(b), the EPA grants a State's application for authorization as long as the State meets the criteria required by RCRA. It would thus be inconsistent with applicable law for the EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this action, the EPA has taken the necessary steps to eliminate drafting errors and ambiguity, minimize potential litigation, and provide a clear legal standard for affected conduct. The EPA has complied with Executive Order 12630 (53 FR 8859, March 15, 1988), by examining the takings implications of this action in accordance with the “Attorney General's Supplemental Guidelines for the Evaluation of Risk and Avoidance of Unanticipated Takings” issued under the executive order. This action does not impose an information collection burden under the provisions of the Paperwork Reduction Act of 1995 (44 U.S.C. 3501 et seq.). “Burden” is defined at 5 CFR 1320.3(b). Executive Order 12898 (59 FR 7629, February 16, 1994) establishes Federal executive policy on environmental justice. Its main provision directs Federal agencies, to the greatest extent practicable and permitted by law, to make environmental justice part of their mission by identifying and addressing, as appropriate, disproportionately high, and adverse human health or environmental effects of their programs, policies, and activities on minority populations and low-income populations in the United States. Executive Order 14096 (88 FR 25251, April 26, 2023) directs the Federal government to build upon and strengthen its commitment to deliver environmental justice to all communities across America through an approach that is informed by scientific research, high-quality data, and measuring Federal engagement with communities with environmental justice concerns. Because this action authorizes pre-existing State rules which are at least equivalent to, and no less stringent than existing Federal requirements, and imposes no additional requirements beyond those imposed by State law, and there are no anticipated significant adverse human health or environmental effects, this action is not subject to Executive Orders 12898 and 14096.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2). This final action will be effective November 4, 2024.

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006, and 7004(b) of the Solid Waste Disposal Act as amended, 42 U.S.C. 6912(a), 6926, and 6974(b).

Dated: October 16, 2024.
Jeaneanne Gettle,
Acting Regional Administrator, Region 4.

[FR Doc. 2024-25602 Filed 11-1-24; 8:45 am]

BILLING CODE 6560-50-P